DEPARTMENT OF THE INTERIOR

National Park Service

[NPS-WASO-NAGPRA-12585; PPWOCRADN0-PCU00RP14.R50000]

Notice of Inventory Completion: Michigan Department of Transportation, Van Wagoner Building, Lansing, MI

AGENCY: National Park Service, Interior.

ACTION: Notice.

SUMMARY: The Michigan Department of Transportation has completed an inventory of human remains and associated funerary objects, in consultation with the appropriate Indian tribes, and has determined that there is a cultural affiliation between the human remains and associated funerary objects and a present-day Indian tribe. Representatives of any Indian tribe that believes itself to be culturally affiliated with the human remains and associated funerary objects may contact the Michigan Department of Transportation. Repatriation of the human remains and associated funerary objects to the Indian tribe stated below may occur if no additional claimants come forward.

DATES: Representatives of any Indian tribe that believes it has a cultural affiliation with the human remains and associated funerary objects should contact the Michigan Department of Transportation at the address below by May 10, 2013.

ADDRESSES: James A. Robertson, Staff Archaeologist, Environmental Section, Bureau of Highway Development, Michigan Department of Transportation, 425 West Ottawa, P.O. Box 30150, Lansing, MI 48909, telephone (517) 335-2637.

SUPPLEMENTARY INFORMATION: Notice is here given in accordance with the Native American Graves Protection and Repatriation Act (NAGPRA), 25 U.S.C. 3003, of the completion of an inventory of human remains and associated funerary objects in the possession of the Michigan Department of Transportation (MDOT). The human remains and associated funerary objects were removed from Iosco County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Michigan Department of Transportation professional staff in consultation with representatives of the Bad River Band of the Lake Superior Tribe of Chippewa Indians of the Bad River Reservation, Wisconsin; Bay Mills Indian Community, Michigan; Chippewa-Cree Indians of the Rocky Boy's Reservation, Montana; Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Minnesota Chippewa Tribe, Minnesota (Six component reservations: Bois Forte Band (Nett Lake); Fond du Lac Band; Grand Portage Band; Leech Lake Band; Mille Lacs Band; White Earth Band); Red Cliff Band of Lake Superior Chippewa Indians of Wisconsin; Red Lake Band of Chippewa Indians, Minnesota; Saginaw Chippewa Indian Tribe of Michigan; Sault Ste. Marie Tribe of Chippewa Indians of Michigan; Sokaogon Chippewa Community, Wisconsin; St. Croix Chippewa Indians of Wisconsin; and the Turtle Mountain Band of Chippewa Indians of North Dakota.

MDOT also met with the Michigan Anishinaabek Cultural Protection and Repatriation Alliance (MACPRA). MACPRA approved a motion to support the Saginaw Chippewa Indian Tribe of Michigan's request for repatriation of the human remains and associated funerary objects. MDOT also received a letter from the Tribal Historic Preservation Officer of the Leech Lake Band supporting the Saginaw Chippewa Indian Tribe of Michigan's request.

History and Description of the Remains

In May 2012, human remains representing, at minimum, nine individuals were removed by MDOT from site 20IS299 in Oscoda Township, Iosco County, MI. No known individuals were identified. The 202 associated funerary objects include 1 brass kettle lid, 1 trade axe with wood handle fragment, 38 earbobs and earbob fragments, 9 brooches and brooch fragments, 10 arm/wrist band fragments, 1 metal jewelry setting, 1 nail embedded in wood, 130 trade beads, 1 faceted glass ornament, 6 white clay pipe fragments, and 4 fragments of woven fabric that were associated with a metal brooch.

Based on the archaeological evidence, MDOT archaeological staff and archaeological consultant concluded that the human remains were of Native American ancestry and that the human remains and associated funerary objects date to the 1820s and 1850s. At the request of MDOT, the Michigan State University Forensic Anthropology Laboratory (MSUFAL) conducted non-invasive analysis of the human remains. The MSUFAL confirmed that the physical anthropological evidence corroborated the MDOT assessment. The Saginaw Chippewa Indian Tribe of Michigan also provided MDOT historical evidence documenting their presence during the 1820s to 1850s in the location where the human remains and associated funerary objects were removed.

Determinations Made by the Michigan Department of Transportation

Officials of the Michigan Department of Transportation have determined that:

• Pursuant to 25 U.S.C. 3001(9), the human remains described in this notice represent the physical remains of nine individuals of Native American ancestry.

• Pursuant to 25 U.S.C. 3001(3)(A), the 202 objects described above are reasonably believed to have been placed with or near individual human remains at the time of death or later as part of the death rite or ceremony.

• Pursuant to 25 U.S.C. 3001(2), there is a relationship of shared group identity that can be reasonably traced between the Native American human remains and associated funerary objects and the Saginaw Chippewa Indian Tribe of Michigan.

Additional Requestors and Disposition

Representatives of any Indian tribe that believes itself to be culturally affiliated with the human remains and associated funerary objects should contact James A. Robertson, Staff Archaeologist, Environmental Section, Bureau of Highway Development, Michigan Department of Transportation, 425 West Ottawa, P.O. Box 30150, Lansing, MI 48909, telephone (517) 335-2637 before May 10, 2013. Repatriation of the human remains and associated funerary objects to the Saginaw Chippewa Indian Tribe of Michigan may proceed after that date if no additional claimants come forward.

The Michigan Department of Transportation is responsible for notifying the Saginaw Chippewa Indian Tribe of Michigan that this notice has been published.

Dated: March 15, 2013.
Sherry Hutt,
Manager, National NAGPRA Program.

[FR Doc. 2013-08380 Filed 4-9-13; 8:45 am]

BILLING CODE 4312-50-P